ENVIRONMENTAL PROTECTION AGENCY

[OPPTS-00321; FRL-6796-9]

Lead Awareness (Educational) Outreach for Native American Tribes; Notice of Funds Availability

AGENCY: Environmental Protection Agency (EPA).

ACTION: Notice.

SUMMARY: EPA is soliciting applications for grants from Indian Tribes to support Tribal lead awareness (educational) outreach activities. EPA is awarding grants which will provide approximately $1 million for Indian Tribes to perform those activities and to encourage Indian Tribes to consider continuing such activities in the future. Decisions on awarding the grant funds will be made based on the evaluation of the applications. This notice describes eligibility, activities, application procedures and requirements, and evaluation criteria.

DATES: All grant applications must be received on or before October 9, 2001.

ADDRESSES: Applications may be submitted by mail. Please follow the detailed instructions as provided in Unit I. of the SUPPLEMENTARY INFORMATION.

FOR FURTHER INFORMATION CONTACT: For general information contact: Barbara Cunningham, Acting Director, Environmental Assistance Division (7401), Office of Pollution Prevention and Toxics, Environmental Protection Agency, 1200 Pennsylvania Ave., NW., Washington, DC 20460; telephone number: (202) 554-1404; e-mail address: TSCA-Hotline@epa.gov.

For technical information contact: Darlene Watford, Program Assessment and Outreach Branch, National Program Chemicals Division (7404), Office of Pollution Prevention and Toxics, Environmental Protection Agency, 1200 Pennsylvania Ave., NW., Washington, DC 20460; telephone number: (202) 260-3989; e-mail address: watford.darlene@epa.gov.

SUPPLEMENTARY INFORMATION:

I. General Information

A. Does this Action Apply to Me?

This action is directed to federally recognized Indian Tribes or Tribal Consortium only. For the purposes of this Notice, a partnership between two or more federally recognized Indian Tribes is considered a consortium. If you have any questions regarding the applicability of this action to a particular entity, consult the technical person listed under FOR FURTHER INFORMATION CONTACT.

B. How Can I Get Additional Information, Including Copies of this Document and Other Related Documents?

You may obtain electronic copies of this document, and certain other related documents that might be available electronically, from the EPA Internet Home Page at http://www.epa.gov/. To access this document on the Home Page select “Laws and Regulations,” “Regulations and Proposed Rules,” and then look up the entry for this document under the “Federal Register—Environmental Documents.” You can also go directly to the Federal Register listings at http://www.epa.gov/fedrgstr/.

You may also access this document at the Office of Pollution Prevention and Toxics Lead Home Page at http://www.epa.govlead. Select “What's New.”

C. How and To Whom Do I Submit an Application?

Submit grant applications through the U.S. mail to: Darlene Watford, Program Assessment and Outreach Branch, National Program Chemicals Division (7404), Office of Pollution Prevention and Toxics (OPPT), Environmental Protection Agency, 1200 Pennsylvania Ave., NW., Washington, DC 20460.

For overnight/express delivery service, send applications to: Darlene Watford, Program Assessment and Outreach Branch, National Program Chemicals Division (7404), Office of Pollution Prevention and Toxics (OPPT), Environmental Protection Agency, 401 M St., SW., Room 817 East Tower, Washington, DC 20460.

D. What Should I Consider as I Prepare My Application?

1. Scope and purpose. The purpose of these grants is to support Indian Tribes in their efforts to provide lead awareness and education and outreach to children, parents, daycare providers, and legal custodians on the potential health risks associated with lead exposure.

2. Eligibility. Eligible recipients are federally recognized Indian Tribes or Tribal Consortia only. Federally recognized Indian Tribes are listed in the Federal Register notice of March 13, 2000 (65 FR 13298-13303).

3. Activities to be funded. EPA will provide financial assistance in the form of grants to Indian Tribes or Tribal Consortia to launch organized outreach efforts to educate Native American families about the dangers to children of exposure to lead-based paint hazards, distribute educational information, and encourage Native American families to have their children screened for lead and have their homes tested for lead hazards. Activities may include but are not limited to training medical professionals, developing culturally specific lead outreach materials, distributing pamphlets, and establishing an in-home education program to visit the homes of young Tribal children.

Applicants may develop their own outreach materials, however, reproducing pre-existing products is preferred. EPA is aware that many State, Tribal, and local departments of health and environmental protection, as well as advocacy groups and community development groups, have developed useful lead poisoning prevention materials to conduct outreach and awareness (educational) activities. EPA and other Federal agencies have developed, and currently provide, a wide range of outreach materials available from the National Lead Information Center (1-800-424-LEAD). Trained specialists at the Center can help applicants identify specific types of lead awareness materials that already exist and thereby avoid spending resources to recreate these materials. Grant funding may be used to duplicate existing lead outreach materials or to develop and implement a lead poisoning awareness and prevention program. Any new materials developed by the applicant must be consistent with the Federal (EPA, Department of Housing and Urban Development (HUD), and Centers for Disease Control (CDC)) lead hazard awareness and poisoning prevention program(s).

4. Project duration. Projects are expected to completed within 2 years of award of the grant.

5. Ineligible costs. Examples of ineligible costs under this grant, include the following:

i. Purchasing real property, such as land or buildings;

ii. Lead hazard reduction activities, such as performing interim controls or abatement (as defined in 40 CFR 745.223) of homes or apartments;

iii. Construction activities, such as renovation, remodeling, or building a structure;

iv. Office equipment that costs more than 10% of the amount of the grant, such as a copying machine or a color printer;

v. Analysis equipment in excess of 10% of the amount of the grant;

vi. Case-management costs (i.e., follow-up visits by a doctor or chelation therapy), including treatment for Tribal children with blood-lead levels ≥10 μg/dL (micrograms per deciliter); and

vi. Contractor support in excess of 25% of the amount of the grant award.

6. Application requirements. Applicants must submit one original and three double-sided copies of the application (include a return mailing address in the application). Applications must be unbound, clipped or stapled in the upper left-hand corner, on white paper, and with page numbers. The deadline for EPA's receipt of applications is October 9, 2001. Applicants must identify in the application any funds from other sources (private or public) used to carry-out their proposed grant projects (in response to this Notice). If the applicant has conducted, or is currently working on a related project(s), a brief description of those projects, funding sources, primary commitments, and an indication as to whether those commitments were met must be provided in the application in the Appendix section of the work plan. The description should also indicate how the proposed project is different from other funded work conducted by the Indian Tribe(s) or unfunded work conducted by another entity (e.g., Indian Health Service, EPA Superfund Office, etc.), and how the proposed project will not duplicate previous or on-going projects. There are no requirements for matching funding under this grant program. There is no requirement for an Indian Tribe to provide documentation to prove that it meets the Treatment as a State standard. No applicant may receive more than one Federal grant under this Notice for the same project. It is important to note that Indian Tribes will not be awarded funds to conduct the same activities under the grant program described in this Notice and the EPA lead-based paint grant program (TSCA section 404(g)) which is described in a separate Federal Register notice published elsewhere in this issue. This Notice is one of three EPA notices that announce the availability of funds to conduct various lead-based paint activities. The specific details regarding the other notices are described in separate Federal Register notices entitled:

• Baseline Assessment of Existing Exposure and Risks of Exposure to Lead Poisoning of Native American Children and

• Solicitation of Applications for Lead-Based Paint Program Grants.

Although Indian Tribes may apply to receive grant funding from all three notices, they each have very distinct objectives. The grant program opportunities described in this Notice and the companion notice (“Baseline Assessment of Existing Exposure and Risks of Exposure to Lead Poisoning of Native American Children”), may serve as a precursor to, but not as an equivalent or supplement to, the TSCA section 404(g) lead-based paint grant program as described in the notice entitled Solicitation of Applications for Lead-Based Paint Program Grants. The TSCA section 404(g) lead-based paint grant program for which funding is also provided, involves infrastructure development for the anticipated implementation of a lead program and does not include the general outreach and education activities as listed in this notice. Indian Tribes may determine from the sample results and data interpretation that they obtain from the Baseline Assessment grant program described in the companion notice (“Baseline Assessment of Existing Exposure and Risks of Exposure to Lead Poisoning of Native American Children”), that they have a need to develop a lead-based paint grant program and may apply for TSCA section 404(g) grant funds. Indian Tribes with an EPA approved lead-based paint program may become eligible for other Federal funding opportunities (such as HUD and CDC grant programs) for lead activities.

i. Grant forms and certifications. The following forms and certifications, which are contained in EPA's “Application Kit for Assistance,” must be included in the application:

a. Standard Form 424 (Application for Federal Assistance);

b. Standard Form 424A (Budget Information-Non-Construction Programs);

c. Standard Form 424B (Assurances-Non-Construction Programs);

d. Standard Form LLL (Disclosure of Lobbying Activities );

e. Certification Regarding Debarment and Suspension;

f. EPA Form 4700-4 (Compliance Review Report Form); and

g. Quality Assurance Statement.

Application Kits for Assistance include items a-g of this unit and are available from any of EPA's 10 Regional Offices listed in this unit or may be accessed at http://www.epa.gov/region4/grants/grants.htm.

Region I: (Connecticut, Massachusetts, Maine, New Hampshire, Rhode Island, and Vermont), Regional Contact—James Bryson, U.S. Environmental Protection Agency (USEPA) Region I, One Congress St., Suite 1100 (CPT), Boston, MA 02114-0203; telephone number: (617) 918-1524; e-mail address: bryson.james@epa.gov.

Region II: (New York, New Jersey, Puerto Rico, and the Virgin Islands), Regional Contact—Lou Bevilacqua, USEPA Region II, MS-225, 2890 Woodbridge Ave., Edison, NJ 08837; telephone number: (732) 321-6671; e-mail address: bevilacqua.lou@epa.gov.

Region III: (Delaware, Maryland, Pennsylvania, Virginia, West Virginia, and the District of Columbia), Regional Contact—Roberta Riccio, USEPA Region III (3WC33), 1650 Arch St., Philadelphia, PA 19103-2029; telephone number: (215) 814-3107; e-mail address: riccio.roberta@epa.gov.

Region IV: (Alabama, Florida, Georgia, Kentucky, Mississippi, North Carolina, South Carolina, and Tennessee), Regional Contact—Rose Anne Rudd, USEPA Region IV, 61 Forsyth St., SW., Atlanta, GA 30303; telephone number: (404) 562-8998; e-mail address: rudd.roseanne@epa.gov.

Region V: (Illinois, Indiana, Michigan, Minnesota, Ohio, and Wisconsin), Regional Contact—David Turpin, USEPA Region V (DT-8J), 77 W. Jackson Blvd., Chicago, IL 60604; telephone number: (312) 886-7836; e-mail address: turpin.david@epa.gov.

Region VI: (Arkansas, Louisiana, New Mexico, Oklahoma, and Texas), Regional Contact—Jeffrey Robinson, USEPA Region VI, 1445 Ross Ave., 12th Floor, Dallas, TX 75202; telephone number: (214) 665-7577; e-mail address: robinson.jeffrey@epa.gov.

Region VII: (Iowa, Kansas, Missouri, and Nebraska), Regional Contact—Mazzie Talley, USEPA Region VII, ARTD/RALI, 901 North 5th, Kansas City, KS 66101; telephone number: (913) 551-7518; e-mail address: talley.mazzie@epa.gov.

Region VIII: (Colorado, Montana, North Dakota, South Dakota, Utah, and Wyoming), Regional Contact—David Combs, USEPA Region VIII, 999-18th St., Suite 300, Denver, CO 80202; telephone number: (303) 312-6021; e-mail address: combs.dave@epa.gov.

Region IX: (Arizona, California, Hawaii, Nevada, American Samoa, and Guam), Regional Contact—Patricia Norton, USEPA Region IX (CMD-4-2), 75 Hawthorne St., San Francisco, CA 94105; telephone number: (415) 744-1069; e-mail address: norton.patricia@epa.gov.

Region X: (Alaska, Idaho, Oregon, and Washington), Regional Contact—Barbara Ross, USEPA Region X, Solid Waste and Toxics Unit (WCM-128), 1200 Sixth Ave., Seattle, WA 98101; telephone number: (206) 553-1985; e-mail address: ross.barbara@epa.gov.

ii. Work plan. The work plan must describe the proposed project. The work plan must be 4-6 pages (typed) in length (excluding Appendix). One page is one side of a single-spaced typed page. The pages must be letter size (10 or 12 characters per inch (cpi)) and must have margins that are at least 1 inch. The format for the work plan must be organized as outlined in this unit:

a. Introduction. Title of Project, Table of Contents, and Summary.

b. Lead awareness (educational) outreach activities. This section should include, but not be limited to, the following items/activities: Purpose, goal, and scope of the project; types of lead educational material that will be used and/or reproduced; types, if any, of lead educational materials that will be developed; distribution and delivery plans; and percentage estimate of the number of Tribal families who will receive the lead awareness information.

c. Project management. Include a description of staff positions, roles, and responsibilities; a description of the Indian Tribe's experience in or potential to conduct activities described in Unit I.D.6.ii.b.; efforts of partnership and collaboration with other local health agencies, extent of contractor support, schedule for completion, and a budget summary.

d. Appendix. The appendix must be no more than 10 pages total and follow the same paging and spacing description as provided in Unit I.D.6.ii.

i. Resumes of key personnel. Include title, description, and reference name with phone number for work on previous or current grants or contracts with the Federal Government within the last 5 years.

ii. Samples of outreach materials. (Optional).

iii. Letters of support from Tribal representatives (for a consortium of Indian Tribes). Include a letter or resolution from the Tribal Council or Chairperson showing support for and commitment to the project. (If it is not possible to obtain a letter/resolution from the Tribal Council or Chairperson to submit with your application, an interim letter of explanation must be included with the application. The letter/resolution will still be required prior to award of grant.)

iv. Related projects. Include detailed information on other lead-based paint or lead related activities (if applicable).

7. Funding. The Agency will have discretion in the distribution of the funds. Applicants may receive grants of up to $30,000. Grant applications for amounts greater than $30,000 may be submitted and subsequently awarded in cases where the size of the Tribal population served is greater than average or where the Tribe is represented by a Tribal consortium. Final distribution of the funds will be dependent upon the number of qualified applicants, tribal populations served by each grant, and other factors, as deemed appropriate by EPA (i.e., evaluation criteria described in Unit I.D.8.).

8. Evaluation criteria. EPA will review all applications. Applications will be reviewed for quality, strength, and completeness against the following criteria. The maximum rating score of an application is 100 points.

i. General (20 points). The applicant's description of an educational outreach program must address the goals of this Notice as described in Unit I.D.1. It must include reasonable and attainable goals and an approach that is clearly detailed. The applicant must describe how effectiveness of the project will be determined. The applicant must provide detailed information on all lead-based paint or lead-related activities for which each tribe has received funding from any Federal, State, or local government.

ii. Outreach (40 points). The applicant should fully describe the proposed educational outreach efforts for the Tribal Indian community (or communities). The messages proposed by the applicant should be consistent with EPA, HUD, and CDC lead-based paint program policies, guidelines, regulations, and recommendations. The following elements will be specifically evaluated:

a. Types of existing lead educational material to be used and/or reproduced (i.e., reports, pamphlets, brochures, video tapes, CD ROMs, etc.); types, if any, of lead awareness (educational) outreach materials that will be developed;

b. Method of distribution of materials throughout the Tribal population;

c. How the messages will be delivered, e.g., lecture, written material distribution, one-on-one interviews;

d. Printing, special video taping, advertising (billboards, posters, flyers), collaboration with radio or television, or other methods used to reach the Tribal Indian population regarding the outreach effort;

e. Percentage estimate of the number of Tribal families who will receive the lead awareness information; efforts that will be employed to target hard-to-reach tribal communities to inform families about childhood lead poisoning and screening, if applicable; the number of people/families/medical personnel/etc., who will be reached; and

f. An indication as to whether the proposed outreach materials and activities are suitable for the target audience (i.e., appropriate language comprehension and cultural identification).

iii. Project management (30 points). The applicant should describe positions of staff, roles and responsibilities, and their qualifications. The following elements will also be evaluated:

a. Resumes of key personnel;

b. Applicant's experience in or potential to conduct activities such as those described in Unit I. D.3.;

c. Previous experience managing similar projects and availability of references;

d. Access to properly trained staff and facilities to conduct the project;

e. Schedule for completing major milestones of the project; and

f. The extent of activities to be performed by a contractor.

iv. Budget and schedule (10 points). The evaluation will consider the extent to which the budget (as provided by applicant on SF424A in the application) is reasonable, clear, and consistent with the intended use of the funds. Although matching funds are not required, bonus points will be given to applications indicating financial contributions and/or in-kind services provided to the project.

II. What Action is the Agency Taking?

EPA is soliciting applications from Indian Tribes for grants to support lead awareness (educational) outreach activities for Indian Tribes. EPA is awarding grants which will provide approximately $1 million for Indian Tribes to perform those activities and to encourage Indian Tribes to consider continuing such activities in the future. Decisions on awarding the grant funds will be made based on the evaluation of the applications.

III. Statutory Authority

Section 10 of TSCA, as supplemented by Public Law 106-74, authorizes EPA to award grants for the purpose of conducting research, development, monitoring, education, training, demonstrations, and studies necessary to carry out the purposes of the Act.

IV. Submission to Congress and the Comptroller General

Grant solicitations such as this are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects

Environmental protection, Grants—Indians, Indians, Lead, Maternal and child health.

Dated: July 31, 2001.
William H. Sanders III,
Director, Office of Pollution Prevention and Toxics.

[FR Doc. 01-20132 Filed 8-9-01; 8:45 am]

BILLING CODE 6560-50-S